COMMODITY FUTURES TRADING COMMISSION

Sunshine Act Meetings

TIME AND DATE: 9:30 a.m., Monday, June 4, 2018.

PLACE: CFTC Headquarters, Lobby-Level Hearing Room, Three Lafayette Centre, 1155 21st Street NW, Washington, DC.

STATUS: Open.

MATTERS TO BE CONSIDERED: The Commodity Futures Trading Commission (“Commission” or “CFTC”) will hold this meeting to consider the following matters:

• Final Rule making Amendments to the Swap Data Access Provisions of Part 49 and Certain Other Matters;

• Proposed Rule on Revisions to Prohibitions and Restrictions on Proprietary Trading and Certain Interests in, and Relationships With, Hedge Funds and Private Equity Funds (Volcker Rule);

• Proposed Rule on Amendments to Swap Dealer Registration De Minimis Exception; and

• Establishment of Subcommittees for the CFTC Technology Advisory Committee.

The agenda for this meeting will be available to the public and posted on the Commission's website at https://www.cftc.gov. In the event that the time, date, or place of this meeting changes, an announcement of the change, along with the new time, date, or place of the meeting, will be posted on the Commission's website.

CONTACT PERSON FOR MORE INFORMATION: Christopher Kirkpatrick, Secretary of the Commission, 202-418-5964.

Dated: May 25, 2018.
Christopher Kirkpatrick,
Secretary of the Commission.

[FR Doc. 2018-11764 Filed 5-29-18; 11:15 am]

BILLING CODE 6351-01-P